DEPARTMENT OF TRANSPORTATION

Federal Aviation Administration

Advisory Circular (AC) 91-56B, Continuing Structural Integrity Program for Airplanes

AGENCY: Federal Aviation Administration (FAA), DOT.

ACTION: Notice of availability and request for comments.

SUMMARY: This notice announces the availability of and request for comments on proposed Advisory Circular (AC) 91-56B, which provides guidance on developing a continuing structural integrity program to ensure safe operation of older airplanes throughout their operational life. This proposed AC addresses airplanes affected by the “Aging Airplane Safety Rule” and provides guidance on the development and use of a damage-tolerance-based Supplemental Structural Inspection Program (SSIP) for all airplanes operated under Title 14, Code of Federal Regulations (14 CFR) part 121; all U.S.-registered multiengine airplanes operated under 14 CFR part 129 certificated with 10 or more passenger seats; and all multiengine airplanes used in scheduled operations under 14 CFR part 135 certificated with 10 or more passenger seats. This AC outlines an acceptable method, but not the only method, of compliance with the Aging Airplane Safety Rule. A previous notice of availability was published in the Federal Register in error on November 20, 2002, and should be disregarded.

DATES: Comments must be received on or before February 4, 2003.

ADDRESSES: Send all comments on the proposed AC to: Brent Bandley, Transport Airplane Directorate, Los Angeles Aircraft Certification Office, ANM-120L, Federal Aviation Administration; 3960 Paramount Boulevard, Lakewood, CA 90712-4137; telephone number: (562) 627-5237, facsimile: (562) 627-5210.

FOR FURTHER INFORMATION CONTACT: Brent Bandley, Transport Airplane Directorate, Los Angeles Aircraft Certification Office, ANM-120L, Federal Aviation Administration; 3960 Paramount Boulevard, Lakewood, CA 90712-4137; telephone number: (562) 627-5237, facsimile: (562) 627-5210.

SUPPLEMENTARY INFORMATION:

Comments Invited

A copy of the draft AC may be obtained by accessing the FAA's Web page at http://www.faa.gov/avr/arm/nprm.cfm?nav=nprm or at http://faa.gov/avr/afs/acs/ac-idx.htm. Interested parties are invited to submit comments on the proposed AC. Commenters must identify AC 91-56B, and submit comments to the address specified above. The FAA will consider all communications received on or before the closing date for comments before issuing the final AC.

Discussion

This proposed AC provides guidance to type certificate holders and airplane operators on how to incorporate an FAA-approved Aging Aircraft Program into FAA-approved maintenance or inspection programs. Previous versions of this AC (AC 91-56 and AC 91-56A) provided guidance to operators of large transport category airplanes on how to develop a damage-tolerance-based SSIP. In this proposed AC, the FAA expands this guidance to small transport category airplanes. In addition, AC 91-56 and AC 91-56A considered only the effects of repair and modifications approved by the type certificate holder and the effects of repairs and operator-approved modifications on individual airplanes. This proposed AC considers the effect of all major repairs, major alterations, and modifications approved by the type certificate holder. In addition, the AC includes an expanded discussion of repairs, alterations, and modifications to take into consideration all major repairs and operator-approved alterations and modifications on individual airplanes. The proposed AC also describes the current Mandatory Modifications Program, Corrosion Prevention and Control Program, the Repair Assessment Program, and Evaluation for Widespread Fatigue Damage.

Issued in Washington, DC on November 21, 2002.
Louis C. Cusimano,
Deputy Director, Flight Standards Service.

[FR Doc. 02-30108 Filed 12-5-02; 8:45 am]

BILLING CODE 4910-13-P